DEPARTMENT OF THE INTERIOR

Bureau of Indian Affairs

Land Acquisitions: 19 Pueblos

AGENCY: Bureau of Indian Affairs, Interior.

ACTION: Notice of final agency determination to take land into trust.

SUMMARY: The Assistant Secretary—Indian Affairs made a final agency determination to acquire approximately 8.43 acres of land into trust for the 19 pueblos on January 31, 2012.

FOR FURTHER INFORMATION CONTACT: Sandra Ray, Realty Specialist, Southwest Regional Office, Bureau of Indian Affairs, 1001 Indian School Road NW., Albuquerque, NM 87104-2303; Telephone (505) 563-3337, sandy.ray@bia.gov.

SUPPLEMENTARY INFORMATION: This notice is published in the exercise of authority delegated by the Secretary of the Interior to the Assistant Secretary—Indian Affairs by 209 Departmental Manual 8.1.

This acquisition is mandatory under 25 U.S.C. 2216(c); Title I—Albuquerque Indian School Act, Public Law 110-453, dated December 2, 2008; and 25 CFR part 151. The land being transferred is two tracts of Federal land, the combined acreage of which is approximately 8.43 acres that were historically part of the Albuquerque Indian School. These two tracts were officially surveyed in 2011 by the U.S. Bureau of Land Management for the Secretary of the Interior, in accordance with Sec. 103 (c) of Public Law 110-453, and are more particularly described as follows:

(1) EASTERN PART TRACT B —That certain tract of land, officially designated TRACT B EAST on the hereinafter described 2011 U.S. Bureau of Land Management survey plat, situated in the Town of Albuquerque Grant, in the City of Albuquerque, within Section 8, Township 10 North, Range 3 East, New Mexico Principal Meridian, Bernalillo County, New Mexico, containing 2.22 acres, more or less.

(2) NORTHERN PART OF TRACT D—That certain tract of land, officially designated TRACT D NORTH on the hereinafter described 2011 U.S. Bureau of Land Management survey plat, situated in the Town of Albuquerque Grant, in the City of Albuquerque, within Sections 7 and 8, Township 10 North, Range 3 East, New Mexico Principal Meridian, Bernalillo County, New Mexico, containing 6.21 acres, more or less.

The above-described TRACT B EAST and TRACT D NORTH were officially surveyed in 2011 by the U.S. Department of the Interior, Bureau of Land Management, Cadastral Survey, and are the same as shown and designated on the official plat of survey entitled “The Town of Albuquerque Grant, Bernalillo County, within Township 10 North, Range 3 East, of the New Mexico Principal Meridian, New Mexico, Metes and Bounds Surveys,” and described in the official field note record, both approved August 12, 2011, and filed in the records of the Bureau of Land Management, New Mexico State Office, in Santa Fe, New Mexico.

The land taken into trust shall remain subject to any private or municipal encumbrances, rights-of-way, restrictions, easements of record, or utility service agreements in effect on the date of enactment of the Act.

The TOTAL AREA, as derived from the above-described survey plat, containing 8.43 acres, more or less. (For copies of the above-described Bureau of Land Management survey plat and field notes, please contact Paul J. Hickey, BLM Indian Lands Surveyor, BIA Southwest Regional Office, by phone at (505) 563-3338, or by email at paul.hickey@bia.gov.)

The determination of the Assistant Secretary—Indian Affairs that this is a mandatory acquisition is final for the Department and can only be appealed to the Federal District Court. This notice will serve as the final agency determination to take the land into trust and that the Secretary shall acquire title to the land no sooner than 30 days following publication of this document in the Federal Register.

Dated: June 25, 2012.
Donald E. Laverdure,
Acting Assistant Secretary—Indian Affairs.

[FR Doc. 2012-16412 Filed 7-3-12; 8:45 am]

BILLING CODE 4310-W7-P